LIBRARY OF CONGRESS

Copyright Royalty Board

37 CFR Part 383

[Docket No. 23-CRB-0013-NSR (2026-2030)]

Determination of Rates and Terms for Digital Performance of Sound Recordings by New Subscription Services and Making of Ephemeral Copies To Facilitate Those Performances (NSS V); Correction

AGENCY: Copyright Royalty Board (CRB), Library of Congress.

ACTION: Proposed rule; correction.

SUMMARY: On December 19, 2024, the Copyright Royalty Judges published for comment proposed regulations governing the rates and terms for the digital performances of sound recordings by new subscription services and for the making of ephemeral recordings necessary to facilitate those transmissions for the period commencing January 1, 2026, and ending on December 31, 2030. That document omitted certain parentheses in the rate adjustment formulas, leaving the parentheses in those formulas unbalanced. This document corrects those formulas.

DATES: The comment period for the proposed rule published December 19, 2024, at 89 FR 103722, is reopened. Comments should be received on or before March 12, 2025.

ADDRESSES: You may submit comments using eCRB, the Copyright Royalty Board's online electronic filing application, at https://app.crb.gov/.

Instructions: To send your comment through eCRB, if you don't have a user account, you will first need to register for an account and wait for your registration to be approved. Approval of user accounts is only available during business hours. Once you have an approved account, you can only sign in and file your comment after setting up multi-factor authentication, which can be done at any time of day. All comments must include the Copyright Royalty Board name and the docket number for this proposed rule (23-CRB-0013-NSR (2026-2030)). All properly filed comments will appear without change in eCRB at https://app.crb.gov, including any personal information provided.

Docket: For access to the docket, go to eCRB, the Copyright Royalty Board's electronic filing and case management system, at https://app.crb.gov/, and search for docket number 23-CRB-0013-NSR (2026-2030).

FOR FURTHER INFORMATION CONTACT: Anita Brown, CRB Program Specialist, at (202) 707-7658 or crb@loc.gov.

SUPPLEMENTARY INFORMATION: This document provides a correction to the formulas in the proposed rule, particularly those in § 383.3.

Correction

In the Federal Register of Thursday, December 19, 2024, in FR Doc. 2024-29384, at 89 FR 103722, on page 103725 in the first column, § 383.3(b)(2)(i)(A) and (B) are corrected to read as follows:

§ 383.3 [Corrected]

* * * * *

(b) * * *

(2) * * *

(i) * * *

(A) For Stand-Alone Contracts, (1 + (Cy−315.664)/315.664) × $0.0234; and

(B) For Bundled Contracts, (1 + (Cy−315.664)/315.664) × $0.0390; and

* * * * *

Dated: January 28, 2025.
David P. Shaw,
Chief Copyright Royalty Judge.

[FR Doc. 2025-02220 Filed 2-7-25; 8:45 am]

BILLING CODE P